DEPARTMENT OF TRANSPORTATION

Office of the Secretary

Aviation Proceedings, Agreements Filed the Week Ending June 30, 2012

The following Agreements were filed with the Department of Transportation under the Sections 412 and 414 of the Federal Aviation Act, as amended (49 U.S.C. 1382 and 1384) and procedures governing proceedings to enforce these provisions. Answers may be filed within 21 days after the filing of the application.

Docket Number: DOT-OST-2012-0100.

Date Filed: June 28, 2012.

Parties: Members of the International Air Transport Association.

Subject: CSC/MailVote/003/2012 dated 5 June 2012 Expedited.

Recommended Practice 1670.

Intended effective date: 7 August 2012.

Docket Number: DOT-OST-2012-0103.

Date Filed: June 28, 2012.

Parties: Members of the International Air Transport Association.

Subject: CSC/34/Meet/004/2012 dated 24 April 2012 Expedited.

Recommended Practice 1630.

Intended effective date: 1 July 2012.

Renee V. Wright,
Program Manager, Docket Operations, Federal Register Liaison.

[FR Doc. 2012-18940 Filed 8-1-12; 8:45 am]

BILLING CODE 4910-9X-P